SURFACE TRANSPORTATION BOARD

60-Day Notice of Intent To Seek Extension of Approval: Classification Index Survey Form

AGENCY: Surface Transportation Board.

ACTION: Notice and request for comments.

SUMMARY: As required by the Paperwork Reduction Act of 1995 (PRA), the Surface Transportation Board (STB or Board) gives notice of its intent to seek approval from the Office of Management and Budget (OMB) for an existing collection without an OMB Control Number of a Classification Index Survey Form, as described below.

DATES: Comments on this information collection should be submitted by June 30, 2023.

ADDRESSES: Direct all comments to Chris Oehrle, Surface Transportation Board, 395 E Street SW, Washington, DC 20423-0001, or to PRA@stb.gov. When submitting comments, please refer to “Paperwork Reduction Act Comments, Classification Index Survey Form.” For further information regarding this collection, contact Pedro Ramirez at (202) 245-0333 or pedro.ramirez@stb.gov. Assistance for the hearing impaired is available through the Federal Relay Service at (800) 877-8339.

SUPPLEMENTARY INFORMATION: Comments are requested concerning: (1) the accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Subjects: In this notice, the Board is requesting comments on the following information collection:

Description of Collection

Title: Classification Index Survey Form.

OMB Control Number: 2140-00XX.

Form Number: Classification Index Survey Form.

Type of Review: Existing Collection without an OMB Control Number.

Respondents: All railroad companies not required to file an Annual Report (Form R-1).

Number of Respondents: One per year.

Estimated Time per Response: Less than 24 hours. This estimate includes time spent reviewing instructions; searching existing data sources; gathering and maintaining the data needed; completing and reviewing the collection of information; and converting the data from the carrier's individual accounting system.

Frequency of Response: On occasion.

Total Annual Hour Burden: Less than 24 hours annually.

Total Annual “Non-Hour Burden” Cost: The Classification Index Survey Form may be submitted electronically without non-hourly costs.

Needs and Uses: Railroads are classified by size into groups of large, medium, and small carriers. The Board must determine the classification of each rail carrier as a Class I, Class II, or Class III railroad. Railroads with a Class I classification (large railroads) must file Annual Reports (Form R-1) under 49 U.S.C. 11145. See OMB Control Number 2140-0009 (Class I Railroad Annual Reports). These reports are used by the Board, other Federal agencies, and industry groups to monitor and assess railroad industry growth, financial stability, traffic, and operations, and to identify industry changes that may affect national transportation policy. All other railroads (those not required to file an (R-1) Annual Report) shall annually compute their adjusted revenues using the “railroad revenue deflator formula,” and, if the computation derived from that formula indicates a change in a carrier's classification, that carrier must submit a “Classification Index Survey Form” to the Board pursuant to 49 CFR 1201 General Instructions 1-1 and § 1241.15.

Under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: April 26, 2023.
Kenyatta Clay,
Clearance Clerk.

[FR Doc. 2023-09153 Filed 4-28-23; 8:45 am]

BILLING CODE 4915-01-P